SECURITIES AND EXCHANGE COMMISSION

Sunshine Act Meeting

Federal Register Citation of Previous Announcement: (68 FR 5058, January 31, 2003).

Status: Open meeting.

Place: 450 Fifth Street, NW., Room 1C30, the William O. Douglas Room, Washington, DC.

Date and Time of Previously Announced Meeting: Tuesday, February 4, 2003, at 10 a.m.

Change in the Meeting: Time change.

The open meeting scheduled for Tuesday, February 4, 2003, at 10 a.m. has been changed to Tuesday, February 4, 2003, at noon.

At times, changes in Commission priorities require alterations in the scheduling of meeting items. For further information and to ascertain what, if any, matters have been added, deleted or postponed, please contact:

The Office of the Secretary at (202) 942-7070.

Dated: January 31, 2003.
Jonathan G. Katz,
Secretary.

[FR Doc. 03-2828 Filed 1-31-03; 4:43 pm]

BILLING CODE 8010-01-P